DEPARTMENT OF TRANSPORTATION

Federal Motor Carrier Safety Administration

[Docket No. FMCSA-2014-0325]

Agency Information Collection Activities; New Information Collection Request: The Impact of Driver Compensation on Commercial Motor Vehicle Safety

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. The primary mission of the Federal Motor Carrier Safety Administration (FMCSA) is to reduce crashes, injuries, and fatalities involving large trucks and buses. Toward that end, FMCSA initiated The Impact of Driver Compensation on Commercial Motor Vehicle Safety Survey.

The primary purpose of the study will be to analyze the possible unintended safety consequences of the various methods by which Commercial Motor Vehicle (CMV) drivers in the sample are compensated. Should the study show that there is a relationship between the methods drivers are paid and the methods' effect on safe driving performance, a potential benefit of the study will be to provide CMV carrier companies with information that will help them make more informed decisions about safe operations.

In addition to the primary purpose of the study, a number of other potentially potential confounding variables will be assessed. These variables include the following:

• Type of commercial motor vehicle operation (long-haul, short-haul, or line-haul) by size of carrier (very small, small, medium or large)

• Whether for-hire, private, or owner operated and whether the carrier can be characterized as a truckload, less-than-truckload, regional, tanker, or other type of carrier

• Number of power units

• Average length of haul

• Primary commodities carried

• Number of regular, full-time drivers the carrier employs

• Average driving experience, in years, of drivers working for the companies included in the sample

This data will be used to demonstrate possible relationships of variables as well as determine if the variables may contribute to unintended safety consequences. Unintended safety consequences include driver out-of-service rates, vehicle out-of-service rates, and crash rates. For the purposes of this study, “commercial motor vehicle (CMV)” will refer only to trucks and not include passenger vehicles such as buses.

DATES: We must receive your comments on or before October 28, 2014.

ADDRESSES: You may submit comments identified by Federal Docket Management System (FDMS) Docket Number FMCSA-2014-0325 using any of the following methods:

• Federal eRulemaking Portal: http://www.regulations.gov. Follow the online instructions for submitting comments.

• Fax: 1-202-493-2251.

• Mail: Docket Services; U.S. Department of Transportation, 1200 New Jersey Avenue SE., West Building, Ground Floor, Room W12-140, 20590-0001.

• Hand Delivery or Courier: West Building, Ground Floor, Room W12-140, 1200 New Jersey Avenue SE., Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008 (73 FR 3316), or you may visit http://edocket.access.gpo.gov/2008/pdfE8-794.pdf.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Ms. Theresa Hallquist, Analysis, Research and Technology Division, Department of Transportation, FMCSA, West Building 6th Floor, 1200 New Jersey Avenue SE., Washington, DC 20590. Telephone: 202-366-1064; email: theresa.hallquist@dot.gov.

SUPPLEMENTARY INFORMATION:

Background: The study will evaluate the relationship between property carrying motor carriers compensation methods and incidences of unsafe driving. In particular, the research team will determine if there is a potential relationship between method of driver compensation and safe driving behavior. This study will be conducted using an online questionnaire. Randomly selected non-passenger motor carriers will be notified by letter from the FMCSA that explains the study and elicits their participation. Participants will receive an email directing them to a Web site to complete the online questionnaire. This study will assist motor carriers and other stakeholders engaged in commercial vehicle safety by enabling them to make informed decisions regarding driver compensation as it relates to safe driving performance. The results of the study will be available to the public in 2015 and will be published on the FMCSA publications and reports Web site, www.fmcsa.dot.gov. No risks to individuals are anticipated as a result of the study.

Title: Evaluating the Relationship Between Commercial Motor Vehicle Drivers Compensation Methods and Incidences of Unsafe Driving.

OMB Control Number: 2126-00XX.

Type of Request: New collection.

Respondents: Safety managers, operations managers or owner operators of commercial motor carriers companies.

Estimated Number of Respondents: 2184.

Estimated Time per Response: Minimum response = 0.27 hour; maximum response = 1.02 hours.

Expiration Date: N/A. This is a new information collection.

Frequency of Response: Once.

Estimated Total Annual Burden: 1,354 hours [(1,164 very small and small carriers for Group 1 respondents × 0.27 hours = 314 hours) + (1,020 medium and large carriers for Group 2 respondents × 1.02 hours = 1,040 hours) = 1,354].

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority of 49 CFR 1.87 on: August 25, 2014.
G. Kelly Regal,
Associate Administrator for Office of Research and Information Technology and Chief Information Officer.

[FR Doc. 2014-20639 Filed 8-28-14; 8:45 am]

BILLING CODE 4910-EX-P